DEPARTMENT OF DEFENSE

Department of the Air Force

Privacy Act of 1974; System of Records

AGENCY: Department of the Air Force, DoD.

ACTION: Notice to add a record system.

SUMMARY: The Department of the Air Force proposes to add a system of records notice to its inventory of records systems subject to the Privacy Act of 1974 (5 U.S.C. 552a), as amended.

DATES: The actions will be effective on January 18, 2006 unless comments are received that would result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Ms. Novella Hill at (703) 588-7855.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on December 7, 2005, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: December 12, 2005.
L.M. Bynum,
OSD Federal Register Liaison Officer, Department of Defense.

F032 AF ILE

System name:

Enterprise Environmental, Safety and Occupational Health-Management Information System (EESOH-MIS).

System location:

The centralized Web-enabled database system is located on servers hosted by Headquarters Electronic Systems Center, Headquarters Air Force Material Command, DISA-GCSS-AF, Bldg. 857, Room 200, 501 E. Moore Drive, Maxwell AFT-Gunter Annex, AL 36114.

Categories of individuals covered by the system:

All personnel involved in the environmental processes to include active duty, guard (including state employees), and reserve personnel as well as Department of Defense civilians (DoD) and contractors.

Categories of records in the system:

Name, Social Security Number (SSN), gender, Race, Date of Birth, citizenship, Mailing Address, home telephone number, work telephone number, home e-mail, personnel type, occupation, pay grade, rank, assigned Unit Identification (UIC), service affiliation, agency, and work e-mail.

Authority for maintenance of the system:

10 U.S.C. 9832, Property Accountability: Regulations; and E.O. 9397 (SSN).

Purpose(s):

The purpose of this system is to establish a management system where personnel having responsibilities and duties for Environmental Safety and Occupational Health (ESOH) programs are identified for purposes of ensuring that such personnel possess the authority to take specified actions required or necessitated by the program.

Routine uses of records maintained in the system including categories of users and the purpose of such uses:

In addition to those disclosures generally permitted under 5 U.S.C. 552a(b) of the Privacy Act, these records or information contained therein may specifically be disclosed outside the (DoD) as a routine use pursuant to 5 U.S.C. 552a(b)(3) as follows:

The (DoD) ‘Blanket Routine Uses’ publilshed at the beginning of the Air Force's compilation of record system notices apply to this system.

Policies and practices for storing, retrieving, accessing, retaining, and disposing of records in the system:

Storage:

All records are stored in electronic media only.

Retrievability:

Records are retrieved by Social Security Number.

Safeguards:

Records are accessed by person(s) responsible for servicing the records system in performance of their official duties and by authorized personnel who are properly screened and cleared for need-to-know. Records stored in locked rooms, cabinets, and in computer storage devices protected by computer system software.

Retention and disposal:

Records are deleted when superseded, obsolete, or no longer needed.

System manager(s) and address:

Chief, AF Enterprise Environmental, Safety and Occupational Health Integration, AF-IOH-RSHC, HQ AFCESA/CEOI, 139 Barnes Drive, Suite 1, Tyndall AFB, FL 32403.

Notification procedure:

Individuals seeking to determine whether information about themselves is contained in this system should address written inquiries to or visit the Chief, AF Enterprise Environmental, Safety and Occupational Health Integration, AF-IOH-RSHC, HQ AFCESA/CEOI, 139 Barnes Drive, Suite 1, Tyndall AFB, FL 32403.

Record access procedures:

Individuals seeking to access records about themselves contained in this system should address written inquiries to or visit the Chief, AF Enterprise Environmental, Safety and Occupational Health Integration, AF-IOH-RSHC, HQ AFCESA/CEOI, 139 Barnes Drive, Suite 1, Tyndall AFB, FL 32403.

Contesting records procedures:

The Air Force rules for accessing records, and for contesting contents and appealing initial agency determinations are published in Air Force Instruction 33-332; 32 CFR part 806b; or may be obtained from the system manager.

Record source categories:

Defense Manpower Data Center.

Exemptions claimed for the system:

None.

[FR Doc. 05-24161 Filed 12-16-05; 8:45 am]

BILLING CODE 5001-06-M